DEPARTMENT OF COMMERCE

Foreign-Trade Zones Board

[B-34-2016]

Foreign-Trade Zone (FTZ) 121—Albany, New York, Authorization of Production Activity, Townsend Leather Company, Inc., (Finished Upholstery Grade Leather, Cut Parts and Product Samples), Johnstown, New York

On May 9, 2016, the Capital District Regional Planning Commission, grantee of FTZ 121, submitted a notification of proposed production activity to the FTZ Board on behalf of Townsend Leather Company, Inc., within Site 7 of FTZ 121, in Johnstown, New York.

The notification was processed in accordance with the regulations of the FTZ Board (15 CFR part 400), including notice in the Federal Register inviting public comment (81 FR 30517, May 17, 2016). The FTZ Board has determined that no further review of the activity is warranted at this time. The production activity described in the notification is authorized, subject to the FTZ Act and the Board's regulations, including Section 400.14.

Dated: September 6, 2016.
Andrew McGilvray,
Executive Secretary.

[FR Doc. 2016-21860 Filed 9-9-16; 8:45 am]

BILLING CODE 3510-DS-P